DEPARTMENT OF HEALTH AND HUMAN SERVICES

Centers for Disease Control and Prevention

[60Day-16-16AWJ; Docket No. CDC-2016-0082]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the “Behavioral Risk Factor Surveillance System (BRFSS) Asthma Call-back Survey (ACBS).” The ACBS is an in-depth asthma survey conducted on a subset of BRFSS respondents with an asthma diagnosis. The goal of this survey is to strengthen the existing body of asthma data and to address critical questions surrounding the health and experiences of persons with asthma.

DATES: Written comments must be received on or before October 11, 2016.

ADDRESSES: You may submit comments, identified by Docket No. CDC-2016-0082 by any of the following methods:

• Federal eRulemaking Portal: Regulations.gov. Follow the instructions for submitting comments.

• Mail: Jeffrey M. Zirger, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Behavioral Risk Factor Surveillance System (BRFSS) Asthma Call-back Survey (ACBS)—Existing Collection in Use without an OMB Control Number—National Center for Environmental Health NCEH), Centers for Disease Control and Prevention (CDC).

Background and Brief Description

The Centers for Disease Control and Prevention (CDC) is requesting a three-year Paperwork Reduction Act (PRA) clearance to conduct information collection under “The Behavioral Risk Factor Surveillance System (BRFSS) Asthma Call-back Survey (ACBS).” The ACBS is an existing collection in use without an OMB Control Number.

BRFSS (OMB Control No. 0920-1061, expiration date 3/31/2018) is a nationwide system of customized, cross-sectional telephone health surveys sponsored by CDC's National Center for Chronic Disease Prevention and Health Promotion (NCCDPHP) Division of Population Health. The BRFSS information collection is conducted in a continuous, three-part telephone interview process: Screening, participation in a common BRFSS core survey, and participation in optional question modules that states use to customize survey content.

The ACBS is not an optional state module, but rather, is a follow-up survey to the regular BRFSS efforts. It is funded by the National Asthma Control Program (NACP) in the Air Pollution and Respiratory Health Branch (APRHB) of the National Center for Environmental Health (NCEH). The ACBS is administered by NCCDPHP on behalf of NCEH using its existing BRFSS sampling frame. BRFSS coordinators in the health departments in U.S. states, territories, and the District of Columbia (collectively referred to as states) are responsible for survey administration. Currently CDC provides its 40 participating states with technical and methodological assistance.

The purpose of ACBS is to gather state-level asthma data and to make them available to track the burden of the disease, to monitor adherence to asthma guidelines, and to direct and evaluate interventions undertaken by asthma control programs located in state health departments. Beyond asthma prevalence estimates, for most states, the ACBS provides the only sources of adult and child asthma data on the state and local level.

As a follow-up, the ACBS is conducted within two weeks after the BRFSS survey. Data collection for ACBS involves screening, obtaining permission, consenting and telephone interviewing on a subset of the BRFSS respondents from participating states. The ACBS eligible respondents are BRFSS adults, 18 years and older, who report ever being diagnosed with asthma. In addition, some states include children, below 18 years of age, who are randomly selected subjects in the BRFSS household. Parents or guardians serve as ACBS proxy respondents for their children ever diagnosed with asthma. If both the BRFSS adult respondent and the selected child in the household have asthma, then only one or the other is eligible for the ACBS.

The ACBS adds considerable state-level depth to the existing body of asthma data. It addresses critical questions surrounding the health and experiences of persons with asthma. Health data include symptoms, environmental factors, and medication use among persons with asthma. Data on their experiences include activity limitation, health system use, and self-management education. These asthma data are needed to direct and evaluate interventions undertaken by asthma control programs located in state health departments. Federal agencies and other entities also rely on this critical information for planning and evaluating efforts and to reduce the burden from this disease.

The CDC makes annual ACBS datasets available for public use and provides guidance on statistically appropriate uses of the data. Participation in the ACBS is voluntary and there are no costs to respondents other than their time. The burden table reflects the landline and cell phone data collection methods used in 2013 and later years. Additionally, the burden table accounts for reporting burden incurred by the states for the monthly or quarterly data submission to CDC. The burden hour estimates represent the 2013 data collection which is the most recent data released.

There is no cost to the respondents other than their time. The total estimated annualized burden hours for all respondents are 6,029 hours.

Estimated Annualized Burden Hours
Type of respondents | Form name | Number of respondents | Number of responses per respondent | Average burden per response (in hrs) | Total burden (in hrs)
BRFSS Adults | ACBS Landline Screener—Adult | 21,424 | 1 | 1/60 | 357
| ACBS Cell Phone Screener—Adult | 8,976 | 1 | 1/60 | 150
BRFSS Parents or Guardians of Children | ACBS Landline Screener—Child ACBS Cell Phone Screener—Child | 4,245 2,238 | 1 1 | 1/60 1/60 | 71 37
ACBS Adults | ACBS Adult Consent and Survey—2013 | 19,954 | 1 | 10/60 | 3,326
ACBS Parents or Guardians of Children | ACBS Child Consent and Survey—2013 | 3,887 | 1 | 10/60 | 648
State BRFSS Coordinators | ACBS Data Submission Layout | 40 | 12 | 3 | 1,440
Total |  |  |  |  | 6,029

Jeffrey M. Zirger,
Health Scientist, Acting Chief, Information Collection Review Office, Office of Scientific Integrity, Office of the Associate Director for Science, Office of the Director, Centers for Disease Control and Prevention.

[FR Doc. 2016-18935 Filed 8-9-16; 8:45 am]

BILLING CODE 4163-18-P